NEIGHBORHOOD REINVESTMENT CORPORATION

Sunshine Act Meetings

TIME AND DATE: 3:00 p.m., Thursday, April 15, 2021.

PLACE: Via Conference Call.

STATUS: Parts of this meeting will be open to the public. The rest of the meeting will be closed to the public.

MATTERS TO BE CONSIDERED: Regular Board of Directors meeting.

The General Counsel of the Corporation has certified that in his opinion, one or more of the exemptions set forth in 5 U.S.C. 552(b)(2) and (4) permit closure of the following portion(s) of this meeting:

• Executive Session

Agenda

I. CALL TO ORDER

II. Discussion Item FY2020 External Audit

III. Executive Session with External Auditors

IV. Executive Session: Report from CEO

V. Executive Session: Report from CFO

VI. Executive Session: NeighborWorks Compass Update

VII. Action Item Approval of Minutes

VIII. Action Item Resolution to Approve FY2020 External Audit

IX. Action Item Recognition of Service for Todd M. Harper

X. Action Item $100M Housing Counseling Plan

XI. Discussion Item NeighborWorks New York City Office Lease

XII. CFPB Fee for Service Opportunity

XIII. Strategic Planning Update

XIV. Capital Corporations Update and Grant Request for June

XV. Management Program Background and Updates

XVI. Adjournment

Portions Open to the Public: Everything except the Executive Session.

Portions Closed to the Public: Executive Session.

CONTACT PERSON FOR MORE INFORMATION: Lakeyia Thompson, Special Assistant, (202) 524-9940; Lthompson@nw.org.

Lakeyia Thompson,
Special Assistant.

[FR Doc. 2021-07321 Filed 4-6-21; 11:15 am]

BILLING CODE 7570-02-P